FEDERAL COMMUNICATIONS COMMISSION

47 CFR Part 76

[MB Docket No. 23-203; Report No. 3220; FR ID 260366]

Petition for Reconsideration of Action in Rulemaking Proceeding; Correction

AGENCY: Federal Communications Commission.

ACTION: Petition for Reconsideration; correction.

SUMMARY: The Federal Communications Commission corrects Dates for the filing of replies to oppositions to the Petition for Reconsideration, published in the Federal Register of November 1, 2024, announcing the dates for filing oppositions and replies to the Petition for Reconsideration of Action. The document contained an error in the Dates section.

DATES: November 13, 2024.

FOR FURTHER INFORMATION CONTACT: For further information, please contact Joseph Price, Policy Division, Media Bureau, at 202-418-1423 or Joseph.Price@fcc.gov.

SUPPLEMENTARY INFORMATION:

Correction

In the Federal Register of November 1, 2024, in FR Doc. 2024-25497, on page 87322, in the third column, correct the Dates caption to read:DATES: Oppositions to the Petition must be filed on or before November 18, 2024. Replies to oppositions to the Petition must be filed on or before November 29, 2024.

Federal Communications Commission.
Marlene Dortch,
Secretary.

[FR Doc. 2024-26213 Filed 11-12-24; 8:45 am]

BILLING CODE 6712-01-P